DEPARTMENT OF THE INTERIOR

Office of the Secretary

Invasive Species Advisory Committee

AGENCY: Office of the Secretary, Interior.

ACTION: Notice of public meetings of the Invasive Species Advisory Committee.

SUMMARY: Pursuant to the provisions of the Federal Advisory Committee Act, notice is hereby given of meetings of the Invasive Species Advisory Committee (ISAC). Comprised of 30 nonfederal invasive species experts and stakeholders from across the nation, the purpose of the Advisory Committee is to provide advice to the National Invasive Species Council, as authorized by Executive Order 13112, on a broad array of issues related to preventing the introduction of invasive species and providing for their control and minimizing the economic, ecological, and human health impacts that invasive species cause. The Council is co-chaired by the Secretary of the Interior, the Secretary of Agriculture, and the Secretary of Commerce. The duty of the Council is to provide national leadership regarding invasive species issues.

Purpose of Meeting: The meeting will be held on June 22-24, 2010 in San Francisco, California, and will focus primarily on aquatic invaders. The Bay Area was chosen as the meeting location because it is one of the most invaded marine/coastal environments in the world, with over 50 invasive species that threaten the Bay's vibrant economy. ISAC will provide recommendations to the Council concerning both the unique challenges faced by the Bay Area, and broader challenges faced by NISC agencies elsewhere in the nation. ISAC will also address the complex relationship between climate change and invasive species, opportunities for green jobs creation within invasive species efforts, ballast water related issues, and the development of state invasive species councils.

DATES: Meeting of the Invasive Species Advisory Committee: Tuesday, June 22, 2010 and Thursday, June 24, 2010; beginning at approximately 8 a.m., and ending at approximately 5 p.m. each day. Members will be participating in an off-site field tour on Wednesday, June 23, 2010.

ADDRESSES: The Argonaut Hotel, 495 Jefferson Street at Hyde, San Francisco, California 94109-1314. The general session on June 22, 2010 and June 24, 2010 will be held in the Golden Gate Ballroom.

FOR FURTHER INFORMATION CONTACT: Kelsey Brantley, National Invasive Species Council Program Analyst and ISAC Coordinator, (202) 513-7243; Fax: (202) 371-1751.

Dated: May 17, 2010.
Lori Williams,
Executive Director, National Invasive Species Council.

[FR Doc. 2010-12581 Filed 5-24-10; 8:45 am]

BILLING CODE 4310-RK-P